FEDERAL DEPOSIT INSURANCE CORPORATION

Notice of Change in Subject Matter of Agency Meeting

Pursuant to the provisions of subsection (e)(2) of the “Government in the Sunshine Act” (5 U.S.C. 552b(e)(2)), notice is hereby given that at its open meeting held at 9:57 a.m. on Tuesday, September 13, 2011, the Corporation's Board of Directors determined, on motion of Director Thomas J. Curry (Appointive), seconded by Director John G. Walsh (Acting Comptroller of the Currency), and concurred in by Acting Chairman Martin J. Gruenberg, that Corporation business required the addition to the agenda for consideration at the meeting, on less than seven days' notice to the public, of the following matters:

Memorandum and resolution re: Final Rule on Resolution Plans Required.

Memorandum and resolution re: Interim Final Rule on Resolution Plans Required for Insured Depository Institutions with $50 Billion or More in Total Assets.

The Board further determined, by the same majority vote, that no notice earlier than September 7, 2011, of the change in the subject matter of the meeting was practicable.

Dated: September 13, 2011.
Federal Deposit Insurance Corporation.
Robert E. Feldman,
Executive Secretary.

[FR Doc. 2011-23844 Filed 9-13-11; 4:15 pm]

BILLING CODE P